DEPARTMENT OF TRANSPORTATION

Federal Aviation Administration

14 CFR Part 39

[Docket No. FAA-2007-0396; Directorate Identifier 2007-NM-282-AD; Amendment 39-15438; AD 2008-06-26]

RIN 2120-AA64

Airworthiness Directives; Airbus Model A330-200, A330-300, A340-200, and A340-300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

One A320 operator has reported a disbond on the composite rudder control rod. Investigations conducted by the supplier revealed that this disbond is due to an incorrect low volume of resin in the fibre composite. The supplier and AIRBUS have confirmed that some rudder control rods installed on A330 and A340-200/-300 aircraft before delivery or delivered as spare are also affected by this defect. Rudder control rod rupture can lead, in the worst case, in combination with a yaw damper runaway to an unsafe condition.

* * * * *

The unsafe condition is reduced control of the airplane. We are issuing this AD to require actions to correct the unsafe condition on these products.

DATES: This AD becomes effective April 23, 2008.

The Director of the Federal Register approved the incorporation by reference of certain publications listed in this AD as of April 23, 2008.

ADDRESSES: You may examine the AD docket on the Internet at: http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on January 10, 2008 (73 FR 1842). That NPRM proposed to correct an unsafe condition for the specified products. The MCAI states:

One A320 operator has reported a disbond on the composite rudder control rod. Investigations conducted by the supplier revealed that this disbond is due to an incorrect low volume of resin in the fibre composite. The supplier and AIRBUS have confirmed that some rudder control rods installed on A330 and A340-200/-300 aircraft before delivery or delivered as spare are also affected by this defect. Rudder control rod rupture can lead, in the worst case, in combination with a yaw damper runaway to an unsafe condition.

In order to prevent such situation, this Airworthiness Directive (AD) requires a one time detailed visual inspection to identify the affected rods and to replace those affected by this issue.

The unsafe condition is reduced control of the airplane. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 8 products of U.S. registry. We also estimate that it will take about 6 work-hours per product to comply with the basic requirements of this AD. The average labor rate is $80 per work-hour. Labor costs may be covered under warranty as described in the service information. Based on these figures, we estimate the cost of this AD to the U.S. operators to be $3,840, or $480 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-26 Airbus: Amendment 39-15438. Docket No. FAA-2007-0396; Directorate Identifier 2007-NM-282-AD.

Effective Date

(a) This airworthiness directive (AD) becomes effective April 23, 2008.

Affected ADs

(b) None.

Applicability

(c) This AD applies to Airbus Model A330-200, A330-300, A340-200, and A340-300 series airplanes, certificated in any category, all certified models, having manufacturing serial numbers (MSNs) as specified in paragraphs (c)(1) and (c)(2) of this AD.

(1) For Model A330-200 and A330-300 series airplanes: MSN 0315, 0323, 0333, 0337, 0338, 0342, 0344, 0346, 0349, 0350, 0351, 0356, 0357, 0370, 0375, 0388, 0389, 0398, 0400, 0404, 0407, 0408, 0412, 0427, 0432, 0454, 0493 and 0539.

(2) For Model A340-200 and A340-300 series airplanes: MSN 0318, 0319, 0321, 0325, 0327, 0329, 0331, 0332, 0335, 0347, 0352, 0354, 0355, 0359, 0363, 0367, 0373, 0374, 0377, 0378, 0379, 0381, 0385, 0387, 0390, 0395, 0399, 0411, 0413, 0415, 0433, 0434, 0435, 0450 and 0474.

Subject

(d) Air Transport Association (ATA) of America Code 27: Flight Controls.

Reason

(e) The mandatory continuing airworthiness information (MCAI) states:

One A320 operator has reported a disbond on the composite rudder control rod. Investigations conducted by the supplier revealed that this disbond is due to an incorrect low volume of resin in the fibre composite. The supplier and AIRBUS have confirmed that some rudder control rods installed on A330 and A340-200/-300 aircraft before delivery or delivered as spare are also affected by this defect. Rudder control rod rupture can lead, in the worst case, in combination with a yaw damper runaway to an unsafe condition.

In order to prevent such situation, this Airworthiness Directive (AD) requires a one time detailed visual inspection to identify the affected rods and to replace those affected by this issue.

The unsafe condition is reduced control of the airplane.

Actions and Compliance

(f) Unless already done, do the following actions.

(1) Within 600 flight hours after the effective date of this AD, identify the part number (P/N) and serial number (S/N) of all rudder control rods installed on the subject airplanes; in accordance with the Accomplishment Instructions of Airbus Service Bulletin A330-27-3157 or A340-27-4156, both dated August 8, 2007, as applicable.

(2) If the P/N and S/N of any rudder control rod identified in paragraph (f)(1) of this AD is not identified in Batch 1, Batch 2a, or Batch 2b of Figure 3 of Airbus Service Bulletin A330-27-3157 or A340-27-4156, both dated August 8, 2007, no further action is required for that control rod, except as provided by paragraph (f)(6) of this AD.

(3) If the P/N and S/N of any rudder control rod identified in paragraph (f)(1) of this AD is identified in Batch 1 of Figure 3 of Airbus Service Bulletin A330-27-3157 or A340-27-4156, both dated August 8, 2007: Within 18 months after the identification required by paragraph (f)(1) of this AD, replace the affected rudder control rod with a new rudder control rod, in accordance with the Accomplishment Instructions of Airbus Service Bulletin A330-27-3157 or A340-27-4156, as applicable.

(4) If the P/N and S/N of any rudder control rod identified in paragraph (f)(1) of this AD is identified in Batch 2a of Figure 3 of Airbus Service Bulletin A330-27-3157 or A340-27-4156, both dated August 8, 2007: Within 1,400 flight hours after the identification required by paragraph (f)(1) of this AD, replace the affected control rod with a new rudder control rod, in accordance with the Accomplishment Instructions of Airbus Service Bulletin A330-27-3157 or A340-27-4156, as applicable.

(5) If the P/N and S/N of any rudder control rod identified in paragraph (f)(1) of this AD is identified in Batch 2b of Figure 3 of Airbus Service Bulletin A330-27-3157 or A340-27-4156, both dated August 8, 2007, do the actions described in paragraph (f)(5)(i) or (f)(5)(ii) of this AD, as applicable, at the compliance time specified in paragraph (f)(5)(i) or (f)(5)(ii), as applicable.

(i) For any rudder control rod having P/N 22205-08 and S/N 1000094651: Within 600 flight hours after the identification required by paragraph (f)(1) of this AD, replace the rudder control rod with a new rudder control rod, in accordance with the Accomplishment Instructions of Airbus Service Bulletin A330-27-3157 or A340-27-4156, both dated August 8, 2007, as applicable.

(ii) For all rudder control rods not identified in paragraph (f)(5)(i) of this AD: Within 6 months after the identification required by paragraph (f)(1) of this AD, replace the rudder control rods with new rudder control rods, in accordance with the Accomplishment Instructions of Airbus Service Bulletin A330-27-3157 or A340-27-4156, both dated August 8, 2007, as applicable.

(6) As of the effective date of this AD, no person may install, on any airplane, any rudder control rod unit having a P/N and S/N identified in Batch 1, Batch 2a, or Batch 2b of Figure 3 of Airbus Service Bulletin A330-27-3157 or A340-27-4156, both dated August 8, 2007.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0246, dated September 5, 2007; Airbus Service Bulletin A330-27-3157, dated August 8, 2007; and Airbus Service Bulletin A340-27-4156, dated August 8, 2007; for related information.

Material Incorporated by Reference

(i) You must use Airbus Service Bulletin A330-27-3157, excluding Appendix 01, dated August 8, 2007; or Airbus Service Bulletin A340-27-4156, excluding Appendix 01, dated August 8, 2007; as applicable; to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on March 9, 2008.
Stephen P. Boyd,
Manager, Transport Airplane Directorate, Aircraft Certification Service.

[FR Doc. E8-5255 Filed 3-18-08; 8:45 am]

BILLING CODE 4910-13-P